SUSQUEHANNA RIVER BASIN COMMISSION

Public Hearing

AGENCY: Susquehanna River Basin Commission.

ACTION: Notice.

SUMMARY: The Susquehanna River Basin Commission will hold a public hearing on November 15, 2012, in Harrisburg, Pennsylvania. At this public hearing, the Commission will hear testimony on the projects listed in the Supplementary Information section of this notice. Such projects are intended to be scheduled for Commission action at its next business meeting, tentatively scheduled for December 14, 2012, which will be noticed separately. The public should take note that this public hearing will be the only opportunity to offer oral comment to the Commission for the listed projects. The deadline for the submission of written comments is November 26, 2012.

DATES: The public hearing will convene on November 15, 2012, at 2:30 p.m. The public hearing will end at 5:00 p.m. or at the conclusion of public testimony, whichever is sooner. The deadline for the submission of written comments is November 26, 2012.

ADDRESSES: The public hearing will be conducted at the Pennsylvania State Capitol, Room 8E-B, East Wing, Commonwealth Avenue, Harrisburg, Pa.

FOR FURTHER INFORMATION CONTACT: Richard A. Cairo, General Counsel, telephone: (717) 238-0423, ext. 306; fax: (717) 238-2436.

Information concerning the applications for these projects is available at the SRBC Water Resource Portal at www.srbc.net/wrp. Materials and supporting documents are available to inspect and copy in accordance with the Commission's Access to Records Policy at www.srbc.net/pubinfo/docs/2009-02%20Access%20to%20Records%20Policy%209-10-09.PDF.

Opportunity to Appear and Comment:

Interested parties may appear at the hearing to offer comments to the Commission on any project listed below. The presiding officer reserves the right to limit oral statements in the interest of time and to otherwise control the course of the hearing. Ground rules will be posted on the Commission's Web site, www.srbc.net, prior to the hearing for review. The presiding officer reserves the right to modify or supplement such rules at the hearing. Written comments on any project listed below may also be mailed to Mr. Richard Cairo, General Counsel, Susquehanna River Basin Commission, 1721 North Front Street, Harrisburg, Pa. 17102-2391, or submitted electronically through http://www.srbc.net/pubinfo/publicparticipation.htm. Comments mailed or electronically submitted must be received by the Commission on or before November 26, 2012, to be considered.

SUPPLEMENTARY INFORMATION: The public hearing will cover the following projects:

Projects Scheduled for Rescission Action:

1. Project Sponsor and Facility: Cinram Manufacturing, Borough of Olyphant, Lackawanna County, PA (Docket Nos. 19960701 and 19960701-1).

2. Project Sponsor and Facility: Clark Trucking, LLC Northeast Division (Lycoming Creek), Lewis Township, Lycoming County, PA (Docket No. 20111207).

3. Project Sponsor and Facility: Woolrich, Inc., Gallagher Township, Clinton County, PA (Docket No. 20050305).

Compliance Action:

1. Project Sponsor: Chobani, Inc. Project Facility: South Edmeston Facility, Town of Columbus, Chenango County, NY.

Projects Scheduled for Action:

1. Project Sponsor and Facility: Aqua Infrastructure, LLC (Source Approval), Piatt, Mifflin, Watson, Cummings, Anthony, Lycoming, and Cogan House Townships, Lycoming County, PA. Modification to expand regional pipeline system (Docket No. 20120604).

2. Project Sponsor and Facility: Black Bear Waters, LLC (Lycoming Creek), Lewis Township, Lycoming County, PA. Modification to increase surface water withdrawal by an additional 0.500 mgd (peak day), for a total of 0.900 mgd (peak day) (Docket No. 20120303).

3. Project Sponsor and Facility: Cabot Oil & Gas Corporation (Bowman Creek), Eaton Township, Wyoming County, PA. Application for renewal of surface water withdrawal of up to 0.290 mgd (peak day) (Docket No. 20080929).

4. Project Sponsor and Facility: Cabot Oil & Gas Corporation (Meshoppen Creek), Lemon Township, Wyoming County, PA. Application for renewal of surface water withdrawal of up to 0.054 mgd (peak day) (Docket No. 20080920).

5. Project Sponsor and Facility: Cabot Oil & Gas Corporation (Tunkhannock Creek), Lenox Township, Susquehanna County, PA. Application for renewal of surface water withdrawal of up to 0.250 mgd (peak day) (Docket No. 20080918).

6. Project Sponsor and Facility: Caernarvon Township Authority, Caernarvon Township, Berks County, PA. Application for renewal of groundwater withdrawal of up to 0.035 mgd (30-day average) from Well 6 (Docket No. 19820912).

7. Project Sponsor and Facility: Carrizo (Marcellus), LLC (Silver Creek), Silver Lake Township, Susquehanna County, PA. Application for surface water withdrawal of up to 0.720 mgd (peak day).

8. Project Sponsor and Facility: Centura Development Company, Inc., Old Lycoming Township, Lycoming County, PA. Application for groundwater withdrawal of up to 0.250 mgd (30-day average) from Well 1.

9. Project Sponsor and Facility: Chesapeake Appalachia, LLC (Susquehanna River), Athens Township, Bradford County, PA. Application for renewal of surface water withdrawal of up to 1.440 mgd (peak day) (Docket No. 20080906).

10. Project Sponsor and Facility: Chesapeake Appalachia, LLC (Susquehanna River), Mehoopany Township, Wyoming County, PA. Application for renewal of surface water withdrawal of up to 0.999 mgd (peak day) (Docket No. 20080923).

11. Project Sponsor and Facility: Chesapeake Appalachia, LLC (Susquehanna River), Wysox Township, Bradford County, PA. Application for renewal of surface water withdrawal of up to 0.999 mgd (peak day) (Docket No. 20080914).

12. Project Sponsor and Facility: Chesapeake Appalachia, LLC (Wyalusing Creek), Rush Township, Susquehanna County, PA. Application for renewal of surface water withdrawal of up to 0.715 mgd (peak day) (Docket No. 20110607).

13. Project Sponsor and Facility: Chief Oil & Gas LLC (Sugar Creek), Burlington Borough and Burlington Township, Bradford County, PA. Application for surface water withdrawal of up to 0.099 mgd (peak day).

14. Project Sponsor and Facility: Citrus Energy (Susquehanna River), Washington Township, Wyoming County, PA. Application for renewal of surface water withdrawal of up to 1.994 mgd (peak day) (Docket No. 20081205).

15. Project Sponsor and Facility: EQT Production Company, Duncan Township, Tioga County, PA. Application for groundwater withdrawal of up to 0.072 mgd (30-day average) from Antrim Well 1.

16. Project Sponsor and Facility: EQT Production Company, Duncan Township, Tioga County, PA. Application for groundwater withdrawal of up to 0.072 mgd (30-day average) from Antrim Well 2.

17. Project Sponsor and Facility: EQT Production Company (Pine Creek), Porter Township, Lycoming County, PA. Application for surface water withdrawal of up to 1.000 mgd (peak day).

18. Project Sponsor and Facility: Equipment Transport, LLC (Pine Creek), Gaines Township, Tioga County, PA. Application for surface water withdrawal of up to 0.467 mgd (peak day).

19. Project Sponsor and Facility: EXCO Resources (PA), LLC (Little Muncy Creek), Franklin Township, Lycoming County, PA. Application for surface water withdrawal of up to 0.999 mgd (peak day).

20. Project Sponsor and Facility: EXCO Resources (PA), LLC (Pine Creek), Watson Township, Lycoming County, PA. Application for surface water withdrawal of up to 1.500 mgd (peak day).

21. Project Sponsor and Facility: Falling Springs Water Works, Inc. (Falling Springs Reservoir), Ransom Township, Lackawanna County, PA. Application for surface water withdrawal of up to 0.800 mgd (peak day).

22. Project Sponsor and Facility: Gaberseck Brothers (Odin Pond 2), Keating Township, Potter County, PA. Application for surface water withdrawal of up to 0.249 mgd (peak day).

23. Project Sponsor and Facility: Galeton Borough Water Authority, Galeton Borough, Potter County, PA. Application for groundwater withdrawal of up to 0.288 mgd (30-day average) from the Germania Street Well.

24. Project Sponsor and Facility: Houtzdale Municipal Authority (Beccaria Springs), Gulich Township, Clearfield County, PA. Application for surface water withdrawal of up to 5.000 mgd (peak day).

25. Project Sponsor and Facility: Mark Manglaviti & Scott Kresge (Tunkhannock Creek), Tunkhannock Township, Wyoming County, PA. Application for surface water withdrawal of up to 0.999 mgd (peak day).

26. Project Sponsor and Facility: Mountain Energy Services, Inc. (Tunkhannock Creek), Tunkhannock Township, Wyoming County, PA. Modification to increase surface water withdrawal by an additional 0.499 mgd (peak day), for a total of 1.498 mgd (peak day) (Docket No. 20100309).

27. Project Sponsor and Facility: Borough of Patton, Clearfield Township, Cambria County, PA. Application for groundwater withdrawal of up to 0.316 mgd (30-day average) from Well 2.

28. Project Sponsor and Facility: Borough of Patton, Clearfield Township, Cambria County, PA. Application for groundwater withdrawal of up to 0.316 mgd (30-day average) from Well 3.

29. Project Sponsor and Facility: Pennsylvania General Energy Company, L.L.C. (First Fork Sinnemahoning Creek), Wharton Township, Potter County, PA. Application for renewal of surface water withdrawal of up to 0.231 mgd (peak day) (Docket No. 20080928).

30. Project Sponsor and Facility: Southwestern Energy Production Company (Lycoming Creek—Bodines), Lewis Township, Lycoming County, PA. Request for extension of Docket No. 20091207.

31. Project Sponsor and Facility: Southwestern Energy Production Company (Lycoming Creek—Ralston), McIntyre Township, Lycoming County, PA. Request for extension of Docket No. 20091210.

32. Project Sponsor and Facility: Southwestern Energy Production Company (Middle Lake), New Milford Township, Susquehanna County, PA. Application for surface water withdrawal of up to 0.720 mgd (peak day).

33. Project Sponsor and Facility: Talisman Energy USA Inc. (Tamarack Lake), Armenia Township, Bradford County, PA. Application for surface water withdrawal of up to 0.100 mgd (peak day).

34. Project Sponsor and Facility: West Cocalico Township Authority, West Cocalico Township, Lancaster County, PA. Application for renewal of groundwater withdrawal of up to 0.259 mgd (30-day average) from Well 2 (Docket No. 19780101).

35. Project Sponsor and Facility: York County Solid Waste and Refuse Authority, Hopewell Township, York County, PA. Modification to replace a remediation well source with no increase in the total system withdrawal limit (Docket No. 19970506).

Authority: Pub. L. 91-575, 84 Stat. 1509 et seq., 18 CFR parts 806-808.

Dated: October 12, 2012.
Thomas W. Beauduy,
Deputy Executive Director.

[FR Doc. 2012-25914 Filed 10-19-12; 8:45 am]

BILLING CODE 7040-01-P